DEPARTMENT OF COMMERCE

International Trade Administration

[C-570-025, C-533-862, C-523-811]

Certain Polyethylene Terephthalate Resin From the People's Republic of China, India and the Sultanate of Oman: Postponement of Preliminary Determinations in the Countervailing Duty Investigations

AGENCY: Enforcement and Compliance, International Trade Administration, Department of Commerce.

FOR FURTHER INFORMATION CONTACT: David Cordell (India) at (202) 482-0408, Ilissa Shefferman (People's Republic of China) at (202) 482-4684, and Thomas Martin (Sultanate of Oman) at (202) 482-3935, AD/CVD Operations, Enforcement and Compliance, International Trade Administration, Department of Commerce, 14th Street and Constitution Avenue NW., Washington, DC 20230.

SUPPLEMENTARY INFORMATION:

Background

On March 30, 2015, the Department of Commerce (the Department) initiated countervailing duty investigations on certain polyethylene terephthalate resin from the People's Republic of China (PRC), India, and the Sultanate of Oman (Oman).¹ Currently, the preliminary determinations are due no later than June 3, 2015.

¹ See Certain Polyethylene Terephthalate Resin from the People's Republic of China, India, and the Sultanate of Oman: Initiation of Countervailing Duty Investigations, 80 FR 18376 (April 6, 2015).

Postponement of the Preliminary Determination

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On May 4, 2015, the petitioners ² submitted a timely request pursuant to section 703(c)(1)(A) of the Act and 19 CFR 351.205(e) to postpone the preliminary determinations.³ Therefore, in accordance with section 703(c)(1)(A) of the Act, we are fully extending the due date for the preliminary determination to not later than 130 days after the day on which the investigation was initiated. As a result, the deadline for completion of the preliminary determination is now August 7, 2015.

² DAK Americas, LLC, M&G Chemicals, and Nan Ya Plastics Corporation, America, (the petitioners).

³ See Letters from Petitioners, entitled “Polyethylene Terephthalate Resin From the People's Republic of China, India and Sultanate of Oman: Petitioners' Request for Extension of the Preliminary Determination,” dated May 4, 2015.

This notice is issued and published pursuant to section 703(c)(2) of the Act and 19 CFR 351.205(f)(1).

Dated: May 7, 2015.
Ronald K Lorentzen,
Acting Assistant Secretary for Enforcement and Compliance.

[FR Doc. 2015-11654 Filed 5-13-15; 8:45 am]

BILLING CODE 3510-DS-P